ENVIRONMENTAL PROTECTION AGENCY

[OPP-34225E; FRL-6785-2]

Diazinon; Receipt of Requests for Amendments and Cancellations

AGENCY: Environmental Protection Agency (EPA).

ACTION: Notice.

SUMMARY: The companies that manufacture diazinon [O,O-diethyl O-(2-isopropyl-6-methyl-4-pyrimidinyl) phosphorothioate] for formulation of pesticide products containing diazinon have asked EPA to cancel their manufacturing-use product registrations. In addition, these companies have asked EPA to cancel or amend their registrations for end-use products containing diazinon to delete all indoor and certain agricultural uses. Pursuant to section 6(f)(1) of the Federal Insecticide, Fungicide, and Rodenticide Act (FIFRA), EPA is announcing the Agency's receipt of these requests. These requests for voluntary cancellation were submitted to EPA in February and March 2001. EPA intends to grant the requested cancellations and amendments to delete uses. EPA also plans to issue a cancellation order for the deleted uses and the canceled registrations at the close of the comment period for this announcement. Upon the issuance of the cancellation order, any distribution, sale, or use of diazinon products listed in this notice will only be permitted if such distribution, sale, or use is consistent with the terms of that order.

DATES: Comments on the requested amendments to delete uses and the requested registration cancellations must be submitted to the address provided below and identified by docket control number OPP-34225E. Comments must be received on or before June 29, 2001.

ADDRESSES: Comments may be submitted by mail, electronically, or in person. Please follow the detailed instructions for each method as provided in Unit I. of the SUPPLEMENTARY INFORMATION. To ensure proper receipt by EPA, it is imperative that you identify docket control number OPP-34225E in the subject line on the first page of your response.

FOR FURTHER INFORMATION CONTACT: Ben Chambliss, Special Review and Reregistration Division (7508C), Office of Pesticide Programs, Environmental Protection Agency, 1200 Pennsylvania Ave., NW., Washington, DC 20460; telephone number: (703) 308-8174; fax number: (703) 308-7042; e-mail address: chambliss.ben@epa.gov.

SUPPLEMENTARY INFORMATION: This announcement consists of three parts. The first part contains general information. The second part addresses the registrants' requests for registration cancellations and amendments to delete uses. The third part proposes existing stocks provisions that will be set forth in the cancellation order that the Agency intends to issue at the close of the comment period for this announcement.

I. General Information

A. Does this Action Apply to Me?

This action is directed to the public in general. You may be potentially affected by this action if you manufacture, sell, distribute, or use diazinon products. The Congressional Review Act, 5 U.S.C. 801 et seq., as added by the Small Business Regulatory Enforcement Fairness Act of 1996, does not apply because this action is not a rule, for purposes of 5 U.S.C. 804(3). Since other entities may also be interested, the Agency has not attempted to describe all the specific entities that may be affected by this action. If you have any questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. To access this document, on the Home Page select “Laws and Regulations,” “Regulations and Proposed Rules” and then look up the entry for this document under the “Federal Register—Environmental Documents.” You can also go directly to the Federal Register listings at http://www.epa.gov/fedrgstr/. To access information about the risk assessment for diazinon, go to the Home Page for the Office of Pesticide Programs or go directly http://www.epa.gov/pesticides/op/diazinon.htm.

2. In person. The Agency has established an official record for this action under docket control number OPP-34225E. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

C. How and to Whom Do I Submit Comments?

You may submit comments through the mail, in person, or electronically. To ensure proper receipt by EPA, it is imperative that you identify docket control number OPP-34225E in the subject line on the first page of your response.

1. By mail. Submit your comments to: Public Information and Records Integrity Branch (PIRIB), Information Resources and Services Division (7502C), Office of Pesticide Programs (OPP), Environmental Protection Agency, 1200 Pennsylvania Ave., NW., Washington, DC 20460.

2. In person or by courier. Deliver your comments to: Public Information and Records Integrity Branch (PIRIB), Information Resources and Services Division (7502C), Office of Pesticide Programs (OPP), Environmental Protection Agency, Rm. 119, Crystal Mall #2, 1921 Jefferson Davis Hwy., Arlington, VA. The PIRIB is open from 8:30 a.m. to 4 p.m., Monday through Friday, excluding legal holidays. The PIRIB telephone number is (703) 305-5805.

3. Electronically. You may submit your comments electronically by e-mail to: opp-docket@epa.gov, or you can submit a computer disk as described above. Do not submit any information electronically that you consider to be CBI. Avoid the use of special characters and any form of encryption. Electronic submission will be accepted in WordPerfect 6.1/8.0 or ASCII file format. All comments in electronic form must be identified by docket control number OPP-34225E. Electronic comments may also be filed online at many Federal Depository Libraries.

D. How Should I Handle CBI that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person listed under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the notice or collection activity.

7. Make sure to submit your comments by the deadline in this notice.

8. To ensure proper receipt by EPA, be sure to identify the docket control number assigned to this action in the subject line on the first page of your response. You may also provide the name, date, and Federal Register citation.

II. Receipt of Requests to Cancel and Amend Registrations to Delete Uses

A. Background

In separate letters dated February 20, 2001, for Aventis Environmental Science, March 6, 2001, for Drexel Chemical Company and April 26, 2001, for Gowan Company, manufacturers of manufacturing-use-products (MUPs) and registrants of pesticide products containing diazinon, requested cancellation of all indoor and certain agricultural uses from their diazinon products to reduce the potential exposure to children associated with diazinon containing products. The letters, with the exception of the letter from Aventis, also requested that EPA cancel their registrations for manufacturing-use pesticide products containing diazinon, conditioned upon issuance of replacement registrations which do not allow their use in formulation of end-use products for the deleted uses. The letter from Aventis Environmental Science requested cancellation of products without issuance of replacement registrations. EPA has acted on the requests and has issued new registrations in March and May 2001. In addition, these companies have asked EPA to cancel or amend their registrations for end-use products containing diazinon consistent with the use cancellation request. In a letter dated February 8, 2001, Prentiss Incorporated, the other maker of diazinon MUPs, stated that all of their diazinon MUPs have been voluntarily canceled through non-payment of maintenance fees and are not included in this notice. Syngenta Crop Protection, Inc., in letters dated January 15, 2001 and February 16, 2001, also requested voluntary cancellation of two end-use products (diazinon 4E insecticide and evict indoor/outdoor WBC) which Syngenta previously submitted to be amended. Pursuant to section 6(f)(1) of the Federal Insecticide, Fungicide, and Rodenticide Act (FIFRA), EPA is announcing the Agency's receipt of these requests from the registrants. With respect to the registration amendments, the companies have asked EPA to amend end-use product registrations to delete all indoor uses and certain agricultural uses which are in the list below:

Indoor uses. Pet collars, or inside any structure or vehicle, vessel, or aircraft or any enclosed area, and/or on any contents therein (except mushroom houses), including food/feed handling establishments, greenhouses, schools, residences, museums, sports facilities, stores, warehouses, and hospitals.

Agricultural uses. Alfalfa, bananas, Bermuda grass, dried beans, dried peas, celery, red chicory (radicchio), citrus, clover, coffee, cotton, cowpeas, cucumbers, dandelions, forestry, (ground squirrel/rodent burrow dust stations for public health use), kiwi, lespedeza, parsley, parsnips, pastures, peppers, potatoes (Irish and sweet), sheep, sorghum, squash (winter and summer), rangeland, Swiss chard, tobacco, and turnips (roots and tops).

B. Requests for Voluntary Cancellation of Manufacturing-Use Products

Pursuant to FIFRA section 6(f)(1)(A), Gowan Company and Drexel Chemical Co. have submitted requests for voluntary cancellation of registrations for their MUPs conditioned upon issuance of replacement registrations which do not allow their use in formulation of end-use products for the deleted uses. Aventis Environmental Science has only requested cancellation of MUPs and not issuance of replacement registrations. The registrations for which cancellations were requested are identified in the following Table 1.

Table 1.—Manufacturing-Use Product Registration Cancellation Requests
Company | Reg. No | Product
Gowan Company | 10163-212 | Gowan diazinon technical
Aventis Environmental | 432-1094 | Pyrenone diazinon aqueous base science
| 432-1130 | Pyrenone diazinon S.E.C.
Drexel Chemical Co. | 19713-104 | Diazinon technical

Under section 6(f)(1)(A) of FIFRA, registrants may request, at any time, that EPA cancel any of their pesticide registrations. Section 6(f)(1)(B) of FIFRA requires that EPA provide a 30-day period in which the public may comment before the Agency may act on the request for voluntary cancellation. In addition, section 6(f)(1)(C) of FIFRA requires that EPA provide a 180-day comment period on a request for voluntary termination of any minor agricultural use before granting the request, unless: (1) The registrants request a waiver of the comment period, or (2) the Administrator determines that continued use of the pesticide would pose an unreasonable adverse effect on the environment. In this case, all of the registrants have requested that EPA waive the 180-day comment period. In light of this request, EPA is granting the request to waive the 180-day comment period and is providing a 30-day public comment period before taking action on the requested cancellations. Because of risk concerns posed by certain uses of diazinon, EPA intends to grant the requested cancellations at the close of the comment period for this announcement.

C. Requests for Voluntary Cancellation of End-Use Products

In addition to requesting voluntary cancellation of MUPs, Syngenta and Aventis Environmental Science USA LP have submitted requests for voluntary cancellation of some of its registrations for end-use pesticide products containing diazinon. The end-use registrations for which cancellation was requested are identified in the following Table 2.

Table 2.—End-Use Product Registration Cancellation Requests
Company | Reg. No | Product
Syngenta crop protection, Inc. | 100-463 | D•Z•N Diazinon 4E insecticide
| 100-785 | Evict indoor/outdoor WBC
Aventis Environmental Science USA LP | 432-907 | Ford's diazinon 4E insecticide
| 432-979 | Pyrenone diazinon residual concentrate insecticide
| 432-987 | Pyrenone diazinon residual spray insecticide
| 432-1062 | Roach and ant spray aqueous
| 432-1108 | Pyrenone diazinon W.B.
| 432-1114 | Pyrenone diazinon water based pressurized spray
| 432-1119> | Pyrenone diazinon water based pressurized spray II

Syngenta and Aventis have requested that EPA waive the 180-day public comment period under section 6(f)(1)(C)(ii) of FIFRA. In light of this request, EPA is granting the request to waive the 180-day comment period and is providing a 30-day public comment period before taking action on the requested cancellations. Because of risk concerns posed by certain uses of diazinon, EPA intends to grant the requested cancellations at the close of the comment period for this announcement.

Requests for Voluntary Amendments to Delete Uses From the Registrations of End-Use Products

Pursuant to section 6(f)(1)(A) of FIFRA, Drexel Chemical Company has also submitted a request to amend their other end-use registrations of pesticide products containing diazinon to delete the aforementioned uses from any product bearing such use. The registrations for which amendments to delete uses were requested are identified in the following Table 3.

Table 3.—End-Use Product Registration Amendment Requests
Company | Reg. No | Product
Drexel Chemical Company | 19713-91 | Diazinon insecticide
| 19713-92 | D-264 4E Diazinon insecticide
| 19713-95 | D-264 14G
| 19713-145 | D-264 Captan seed protectant
| 19713-263 | Diazinon 5G
| 19713-264 | Diazinon 2G
| 19713-317 | Bug spray (SP)
| 19713-492 | Diazinon 50 WP

Under section 6(f)(1)(A) of FIFRA, registrants may request, at any time, that their pesticide registrations be amended to delete one or more pesticide uses. Drexel Chemical Co., has requested that EPA waive the 180-day comment period. In light of this request, EPA is granting the request to waive the 180-day comment period and is providing a 30-day public comment period before taking action on the requested amendments to delete uses. Because of risk concerns posed by certain uses of diazinon, EPA intends to grant the requested amendments to delete uses at the close of the comment period for this announcement.

III. Proposed Existing Stocks Provisions

The registrants have requested voluntary cancellation of the diazinon registrations identified in Tables 1 and 2 and submitted amendments to terminate certain uses of the diazinon registrations identified in Table 3. Pursuant to section 6(f) of FIFRA, EPA intends to grant the requests for voluntary cancellation and amendment. For purposes of the cancellation order that the Agency intends to issue at the close of the comment period for this announcement, the term “existing stocks” will be defined, pursuant to EPA's existing stocks policy at 56 FR 29362, June 26, 1991, as those stocks of a registered pesticide product which are currently in the United States, which have been packaged, labeled, and released for shipment prior to the effective date of the cancellation or amendment. Any distribution, sale, or use of existing stocks after the effective date of the cancellation order that the Agency intends to issue that is not consistent with the terms of that order will be considered a violation of section 12(a)(2)(K) and/or 12(a)(1)(A) of FIFRA.

A. Manufacturing-Use Products

1. Distribution or sale. The distribution or sale of existing stocks of any MUP identified in Table 1 will not be lawful under FIFRA as of the date of issuance of the cancellation order except for purposes of relabeling, shipping such stocks for export consistent with the requirements of section 17 of FIFRA, or proper disposal.

2. Use for producing other products. The use of existing stocks of any MUP identified in Table 1 for formulation into any other product labeled for indoor use will not be lawful under FIFRA effective issuance date of the cancellation order. The use of existing stocks of any MUP identified in Table 1 for formulation into any other product labeled for the agricultural uses listed above will not be lawful under FIFRA as of June 30, 2001.

B. End-Use Products

1. Distribution or sale of products bearing instructions for use on agricultural crops. The distribution or sale or of existing stocks by any person of any product listed in Table 2 or 3 that bears instructions for use on the above listed agricultural crops will not be lawful under FIFRA 1-year after the effective date of the use deletion or cancellation. Any use of such product until that date must be in accordance with the existing labeling of that product.

2. Distribution or sale of products bearing instructions for use on indoor sites. The distribution or sale of existing stocks by the registrant of any product listed in Table 2 or 3 that bears instructions for use at or on any indoor sites (except mushroom houses), shall not be lawful under FIFRA effective issuance date of the cancellation order.

3. Retail and other distribution or sale. The retail sale of existing stocks of products listed in Table 2 or 3 bearing instructions for any indoor uses except mushroom houses will not be lawful under FIFRA after December 31, 2002.

4. Use of existing stocks. EPA intends to permit the use of existing stocks of products listed in Table 2 or 3 until such stocks are exhausted, provided such use is in accordance with the existing labeling of that product.

List of Subjects

Environmental protection, Pesticides and pests.

Dated: May 18, 2001.
Lois A. Rossi,
Director, Special Review and Reregistration Division, Office of Pesticide Programs.

[FR Doc. 01-13514 Filed 5-29-01; 8:45 am]

BILLING CODE 6560-50-S